ENVIRONMENTAL PROTECTION AGENCY

40 CFR Part 52

[EPA-R09-OAR-2011-0492; FRL-9726-5]

Approval and Promulgation of Implementation Plans; California; Determinations of Attainment for the 1997 8-Hour Ozone Standard

AGENCY: Environmental Protection Agency (EPA).

ACTION: Proposed rule.

SUMMARY: EPA is proposing determinations relating to 1997 8-hour ozone nonattainment areas in California. First, EPA is proposing to determine that six 8-hour ozone nonattainment areas in California (Amador and Calaveras Counties, Chico, Kern County, Mariposa and Tuolumne Counties, Nevada County, and Sutter County) (“six CA areas”) attained the 1997 8-hour ozone national ambient air quality standard (NAAQS) by their applicable attainment dates. Second, in making these proposed determinations for Mariposa and Tuolumne Counties and Nevada County, EPA is also proposing to grant them one-year attainment date extensions. Lastly, EPA is proposing to determine that the six CA areas and the Ventura County 8-hour ozone nonattainment area in CA have attained and continue to attain the 1997 8-hour ozone NAAQS based on the most recent three years of data. Under the provisions of EPA's ozone implementation rule, these proposed determinations suspend the requirements for these areas to submit revisions to the state implementation plan related to attainment of the 1997 8-hour ozone standard for as long as these areas continue to meet the 1997 8-hour ozone NAAQS.

DATES: Written comments must be received on or before October 15, 2012.

ADDRESSES: Submit comments, identified by docket number EPA-R09-OAR-2011-0492, by one of the following methods:

1. Federal eRulemaking Portal, at www.regulations.gov, please follow the on-line instructions;

2. Email to ungvarsky.john@epa.gov; or

3. Mail or delivery to John Ungvarsky, Air Planning Office, AIR-2, U.S. Environmental Protection Agency, Region IX, 75 Hawthorne Street, San Francisco, California 94105-3901.

Please see the direct final rule which is located in the Rules section of this Federal Register for detailed instructions on how to submit comments.

FOR FURTHER INFORMATION CONTACT: John Ungvarsky, (415) 972-3963, or by email at ungvarsky.john@epa.gov.

SUPPLEMENTARY INFORMATION: For further information, please see the direct final action, of the same title, which is located in the Rules section of this Federal Register. EPA is approving: the determinations of attainment by applicable attainment dates; attainment date extensions; and determinations of continued attainment as a direct final rule without prior proposal because EPA views these as noncontroversial actions and anticipates no adverse comments. A detailed rationale for these actions is set forth in the preamble to the direct final rule. If EPA receives no adverse comments, EPA will not take further action on this proposed rule.

If EPA receives adverse comments, EPA will withdraw the direct final rule, and it will not take effect. EPA will address all public comments in a subsequent final rule based on this proposed rule. EPA will not institute a second comment period on this action. Any parties interested in commenting on this action should do so at this time. Please note that if we receive adverse comment on an amendment, paragraph, or section of this rule and if that provision may be severed from the remainder of the rule, EPA may adopt as final those provisions of the rule that are not the subject of an adverse comment.

Dated: August 30, 2012.
Jared Blumenfeld,
Regional Administrator, EPA Region IX.

[FR Doc. 2012-22467 Filed 9-13-12; 8:45 am]

BILLING CODE 6560-50-P